DEPARTMENT OF DEFENSE

Department of the Air Force

[Docket ID USAF-2023-HQ-0004]

Proposed Collection; Comment Request

AGENCY: Department of the Air Force, Department of Defense (DoD).

ACTION: 60-Day information collection notice.

SUMMARY: In compliance with the Paperwork Reduction Act of 1995, Air Force Services announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Air Force Services, 1040 Air Force Pentagon, Washington, DC 20330-1040; ATTN: Randi Ramcharan, or call (703) 693-0683.

SUPPLEMENTARY INFORMATION:

Title; Associated Form; and OMB Number: Air Force Families Forever Annual Survey; OMB Control Number 0701-AFFF.

Needs and Uses: The goal of the annual Air Force Families Forever (AFFF) survey is to measure effectiveness of the program from the customer perspective. The information from the survey will be used to update policy, operational guidance, processes, or resources based on the feedback provided. Respondents include next of kin family members of deceased Regular Air Force, Space Force, and Reserve Component members who died in an active duty, inactive duty for training, or annual training status and whose relationship was established prior to the member's death.

Affected Public: Individuals or households.

Annual Burden Hours: 116.67.

Number of Respondents: 350.

Responses per Respondent: 1.

Annual Responses: 350.

Average Burden per Response: 20 minutes.

Frequency: Annually.

Dated: February 7, 2023.
Aaron T. Siegel,
Alternate OSD Federal Register Liaison Officer, Department of Defense.

[FR Doc. 2023-02894 Filed 2-9-23; 8:45 am]

BILLING CODE 5001-06-P